DEPARTMENT OF HOMELAND SECURITY

Office of the Secretary

[Docket No. DHS-2022-0040]

DHS Data Privacy and Integrity Advisory Committee

AGENCY: Privacy Office, DHS.

ACTION: Committee management; notice of committee re-establishment.

SUMMARY: The Secretary of Homeland Security has determined that the re-establishment of the Data Privacy and Integrity Advisory Committee is necessary and in the public interest in connection with the Department of Homeland Security's performance of its duties. This determination follows consultation with the Committee Management Secretariat, General Services Administration.

DATES: The committee's charter expired on July 8, 2022.

ADDRESSES: Any Comments must be identified by DHS Docket Number (DHS-2022-0040) and may be submitted by one of the following methods:

• Federal eRulemaking Portal:

http://www.regulations.gov. Follow the instructions for submitting comments.

• E-mail: PrivacyCommittee@dhs.gov. Include the Docket Number (DHS-2022-0040) in the subject line of the message.

• Fax: (202) 343-4010.

• Mail: Sandra L. Taylor, Designated Federal Officer, Data Privacy and Integrity Advisory Committee, Department of Homeland Security, Privacy Office, Mail Stop 0655, 2707 Martin Luther King Jr. Ave SE, Washington, DC 20598-0655.

Instructions: All submissions must include the words “Department of Homeland Security” and DHS-2022-0040, the docket number for this action. Comments received will be posted without alteration at http://www.regulations.gov, including any personal information provided.

Docket: For access to the docket to read background documents or comments received, go to http://www.regulations.gov.

FOR FURTHER INFORMATION CONTACT: Sandra L. Taylor, Designated Federal Officer, DHS Data Privacy and Integrity Advisory Committee, Department of Homeland Security, Privacy Office, Mail Stop 0655, 2707 Martin Luther King Jr. Ave SE, Washington, DC 20598-0655, by telephone (202) 343-1717, by fax (202) 343-4010, or by email to privacycommittee@hq.dhs.gov.

Responsible DHS Officials: Lynn Parker Dupree, Chief Privacy Officer, and Sandra L. Taylor, Designated Federal Officer, 2707 Martin Luther King, Jr., Avenue SE, Mail Stop 0655, Washington, DC 20598, PrivacyCommittee@dhs.gov, (202) 343-1717.

SUPPLEMENTARY INFORMATION: Purpose and Objective: Under the authority of 6 U.S.C. 451, this charter renewed the Data Privacy and Integrity Advisory Committee as a discretionary committee, which shall operate in accordance with the provisions of the Federal Advisory Committee Act (FACA), 5 U.S.C. Appendix. The Committee provides advice at the request of the Secretary and the Chief Privacy Officer of the Department of Homeland Security (DHS) (hereinafter “the Chief Privacy Officer”) on programmatic, policy, operational, security, administrative, and technological issues within DHS that relate to personally identifiable information (PII), as well as data integrity, transparency, and other privacy-related matters.

Lynn Parker Dupree,
Chief Privacy Officer, Department of Homeland Security.

[FR Doc. 2022-15833 Filed 7-22-22; 8:45 am]

BILLING CODE 4410-10-P